DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by May 13, 2024 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Animal Plant and Health Inspection Service

Title: Commercial Transportation of Equines for Slaughter.

OMB Control Number: 0579-0332.

Summary of Collection: Section 901-905 of the Federal Agriculture Improvement and Reform Act of 1996 (7 U.S.C. 1901) authorize the Secretary of Agriculture to issue guidelines for regulating the commercial transportation of equine for slaughter, by persons regularly engaged in that activity within the United States. Specifically, the Secretary is authorized to regulate the food, water, and rest provided to the equines while they are in transit and to review related issues be appropriate to ensuring that these animals are treated humanely. To implement the provisions of this Act, the Veterinary Services program of the U.S. Department of Agriculture's Animal and Plant Health Inspection Service (APHIS) has established minimum standards to ensure the humane movement of equines for slaughter.

Need and Use of the Information: APHIS will collect information in the form of owner-shipper certificates of fitness to travel to slaughter facility; certificate of veterinary inspection; application of backtags; collection of business information on any person found to be transporting horses to a slaughtering facility; and recordkeeping. The collected information is use to ensure that equines being transported for slaughter receive adequate food, water, and rest and are treated humanely. If the information was collected less frequently or not collected, APHIS' ability to ensure that equines destined for slaughter are treated humanely would be significantly hampered.

Description of Respondents: 200 Business or other for profit, 30 Individuals or Households, and (2) Federal Government.

Number of Respondents: 232.

Frequency of Responses: Reporting: On occasion; Recordkeeping, and Third-Party Disclosure:

Total Burden Hours: 4,049.

Rachelle Ragland-Greene,
Acting Departmental Information Collection Clearance Officer.

[FR Doc. 2024-07724 Filed 4-10-24; 8:45 am]

BILLING CODE 3410-34-P